DEPARTMENT OF COMMERCE

International Trade Administration

Department of Commerce: Trade Promotion Coordinating Committee Renewable Energy and Energy Efficiency Export Strategy To Support the National Export Initiative

AGENCY: International Trade Administration, Department of Commerce.

ACTION: Notice and request for comment.

SUMMARY: In order to support President Obama's National Export Initiative (NEI), the interagency Trade Promotion Coordinating Committee's (TPCC) Renewable Energy and Energy Efficiency Working Group is developing a U.S. Renewable Energy and Energy Efficiency Export Strategy (the Strategy) to guide U.S. government programs supporting U.S. renewable energy and energy efficiency companies wishing to compete for sales abroad. The Strategy focuses on increasing exports of goods and services related to renewable energy and energy efficiency. Not included in this initiative are all goods and services that relate to the transport sector, including biofuels and biofuel feedstock.

The TPCC Renewable Energy and Energy Efficiency Working Group seeks input from private businesses, trade associations, academia, labor organizations, non-governmental organizations, and other interested parties regarding foreign or domestic policies or conditions of competition that impede exports faced by exporters of the relevant goods and services; effectiveness or ineffectiveness of Federal government programs supporting U.S. exports of renewable energy and energy efficiency technology, including specific experiences with such Federal government programs; specific ways in which the Federal government can improve its programs to support exports of U.S. goods and services related to renewable energy and energy efficiency; Federal activities and programs that would benefit from increased interagency cooperation; and generally how the Federal government can better help U.S. businesses export more renewable energy and energy efficiency technologies.

This input will be used to help guide the TPCC in its formulation of the strategy that will support the NEI, with the goal of doubling U.S. exports by 2015.

DATES: Comments must be received by 11:59 p.m. on July 10, 2010, to be considered.

ADDRESSES: To provide input to the TPCC Renewable Energy and Energy Efficiency Working Group, please send comments by post, e-mail or fax to the attention of Julius Svoboda, Office of Energy & Environmental Industries, International Trade Administration, U.S. Department of Commerce, 1401 Constitution Ave., NW., Room 4053, Washington, DC 20230; 202-482-4152; e-mail newenergy@trade.gov; fax 202-482-5665. Electronic responses should be submitted in Microsoft Word format. Information identified as confidential will be protected to the extent permitted by law.

SUPPLEMENTARY INFORMATION: On March 11, 2010, President Obama issued Executive Order 13534, which created the NEI in order to enhance and coordinate Federal efforts to facilitate the creation of jobs in the United States through the promotion of exports and to ensure the effective use of Federal resources in support of these goals, The Executive Order created the Export Promotion Cabinet, which coordinates with the TPCC, to provide the President a comprehensive plan within 180 days to carry out the goals of the NEI. In response to Executive Order 13534, and with a view to increasing the amount of U.S. exports related to Renewable Energy and Energy Efficiency, the TPCC Working Group on Renewable Energy and Energy Efficiency has agreed to prepare, in conjunction with other relevant TPCC Working Groups, a National Renewable Energy and Energy Efficiency Export Strategy for consideration by the Export Promotion Cabinet for inclusion in the NEI implementation plan. The Strategy will entail: (1) An evaluation of the current global renewable energy and energy efficiency energy market; (2) an analysis of overlaps and gaps in Federal government programs designed to boost exports related to renewable energy and energy efficiency; and (3) goals of the TPCC Working Group on Renewable Energy and Energy Efficiency supporting the sector. The Strategy will be completed in September 2010 to coincide with the release of the first NEI report to the President.

The Trade Promotion Coordinating Committee—The TPCC is an interagency committee that coordinates the development of U.S. Government trade promotion policies and programs. The TPCC is composed of representatives from 20 Federal agencies. The Department of Commerce and the Department of Energy co-chair the TPCC Renewable Energy and Energy Efficiency Working Group. Other Working Group agencies include the Export-Import Bank, the Overseas Private Investment Corporation, the U.S. Trade and Development Agency, the Small Business Administration, the Departments of Agriculture, State, and Labor, and the Office of the U.S. Trade Representative.

The TPCC Renewable Energy and Energy Efficiency Working Group—The Renewable Energy and Energy Efficiency Working Group is a sub-group of the TPCC focused on the coordination and development of government-wide export assistance to goods and services related to renewable energy and energy efficiency. The Renewable Energy and Energy Efficiency Working Group held its first meeting on January 22, 2010.

The National Export Initiative—NEI is an Obama Administration initiative to improve conditions that directly affect the private sector's ability to export. The NEI is intended to meet the Administration's goal of doubling exports over the next 5 years by working to remove export barriers, by helping firms—especially small businesses—overcome the hurdles to entering new export markets, assisting with financing, and in general by pursuing a government-wide approach to export advocacy abroad, among other steps.

Edward A. O'Malley,
Director, Office of Energy and Environmental Industries, International Trade Administration, U.S. Department of Commerce.

[FR Doc. 2010-12982 Filed 5-27-10; 8:45 am]

BILLING CODE P